DEPARTMENT OF JUSTICE

Notice of Lodging Proposed Consent Decree

In accordance with Departmental Policy, 28 CFR 50.7, notice is hereby given that a proposed Consent Decree in United States of America v. The Port of Astoria, Oregon, CV 09-197 KI, was lodged with the United States District Court for the District of Oregon on March 20, 2009.

This proposed Consent Decree concerns a complaint filed by the United States against The Port of Astoria pursuant to Section 301(a) of the Clean Water Act, 33 U.S.C. 1311(a), to obtain injunctive relief from and to impose civil penalties against the Port of Astoria for violating the Clean Water Act by discharging pollutants in violation of a permit into waters of the United States near Astoria, Oregon. The proposed Consent Decree resolves the allegations by requiring the Port of Astoria to pay a civil penalty and to hire and retain an environmental compliance officer.

The Department of Justice will accept written comments relating to this proposed Consent Decree for thirty (30) days from the date of publication of this Notice. Please address comments to Neil J. Evans, Assistant United States Attorney, 1000 SW. Third Ave., Suite 600, Portland, Oregon, 97204-2902, and refer to United States of America v. The Port of Astoria, Oregon (D. Ore.), CV 09-198 KI.

The proposed Consent Decree may be examined at the Clerk's Office, United States District Court for the District of Oregon, Mark O. Hatfield U.S. Courthouse, 1000 SW. Third Avenue, Portland, OR 97204-2902. In addition, the proposed Consent Decree may be viewed at http://www.usdoj.gov/enrd/Consent_Decrees.html.

Russell Young,
Assistant Chief, Environmental Defense Section, Environment & Natural Resources Division.

[FR Doc. E9-8314 Filed 4-10-09; 8:45 am]

BILLING CODE